INTERNATIONAL TRADE COMMISSION

[Investigation No. 332-497]

Advice Concerning Possible Modifications to the U.S. Generalized System of Preferences, 2007 Review of Competitive Need Limit Waivers

AGENCY: United States International Trade Commission.

ACTION: Change in scope of investigation.

SUMMARY: Following receipt of a letter on March 13, 2008, from the United States Trade Representative (USTR) advising of the withdrawal of petitions requesting the waiver of the competitive need limit for the following two articles under the Generalized System of Preferences (GSP) program, the Commission has terminated its investigation with respect to those two articles and will not provide probable economic effect advice with respect to those articles:

Polyethylene terephthalate (PET) resin (HTS subheading 3907.60.00) from Indonesia, USTR accepted case 2007-13); and

Full grain, unsplit, fancy leather (HTS subheading 4107.91.80) from Argentina, USTR accepted case 2007-15).

The Commission expects to transmit its report to the USTR providing its advice with respect to the remaining articles that are the subject of the USTR's request for advice by April 17, 2008.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Information may be obtained from Cynthia B. Foreso, Project Leader, Office of Industries (202-205-3348 or cynthia.foreso@usitc.gov) or Eric Land, Deputy Project Leader, Office of Industries (202-205-3349 or eric.land@usitc.gov). For more information on legal aspects of the investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). The public record for this investigation may be viewed on the Commission's electronic docket (EDIS-ONLINE) at http://www.usitc.gov/secretary/edis.htm. Persons with mobility impairments who will need special assistance in gaining access to the Commission should contact the Office of the Secretary at 202-205-2000.

Background: The Commission instituted the investigation on January 29, 2008, following receipt of a letter from the USTR on January 18, 2008. Notice of institution of the investigation and the scheduling of a public hearing was published in the Federal Register of February 4, 2008 (73 FR 6526); notice of cancellation of the public hearing, following the withdrawal of requests to appear by all scheduled witnesses, was published in the Federal Register of February 28, 2008 (73 FR10807). The deadline for filing written submissions in this investigation was March 7, 2008.

By order of the Commission.
Issued: March 25, 2008.
Marilyn R. Abbott,
Secretary to the Commission.

[FR Doc. E8-6498 Filed 3-28-08; 8:45 am]

BILLING CODE 7020-02-P